ENVIRONMENTAL PROTECTION AGENCY

40 CFR Parts 52, 60, and 61

[Region 4; FRL-9964-36-Region 4]

Address and Agency Name Changes for Region 4 State and Local Agencies; Technical Correction

AGENCY: Environmental Protection Agency.

ACTION: Final rule; technical amendment.

SUMMARY: The Environmental Protection Agency (EPA) is correcting the addresses and agencies names for EPA Region 4 State and local agencies in EPA regulations. The jurisdiction of EPA Region 4 includes the States of Alabama, Florida, Georgia, Kentucky, Mississippi, North Carolina, South Carolina and Tennessee. Certain EPA air pollution control regulations require submittal of notifications, reports and other documents to the appropriate authorized State or local agency. This technical amendment updates and corrects agency names and the addresses for submitting such information to the EPA Region 4 State and local agency offices.

DATES: This rule is effective July 17, 2017.

FOR FURTHER INFORMATION CONTACT: Kelly Sheckler, Air Regulatory Management Section, Air Planning and Implementation Branch, Air, Pesticides and Toxics Management Division, U.S. Environmental Protection Agency, Region 4, 61 Forsyth Street SW., Atlanta, Georgia 30303-8960. Ms. Sheckler's telephone number is 404-562-9992. She can also be reached via electronic mail at Sheckler.Kelly@epa.gov.

SUPPLEMENTARY INFORMATION:

I. Background

EPA is amending its regulations in 40 CFR parts 52, 60 and 61 to reflect changes in the addresses for the Kentucky Division for Air Quality, and the Louisville Metro Air Pollution Control District in Kentucky; the Mecklenburg County Air Quality Land Use and Environmental Services Agency, and Western North Carolina Regional Air Quality Agency in North Carolina; and, the Tennessee Department of Environment and Conservation and the Nashville Metro Public Health Department Pollution Control Division in Tennessee. EPA is also revising the agency name for North Carolina Department of Natural Resources to the North Carolina Department of Environmental Quality. This technical amendment merely updates and corrects the addresses for the state and local agencies, and a name change for one of the state agencies.

EPA has determined that this rule falls under the “good cause” exemption in section 553(b)(3)(B) of the Administrative Procedure Act (APA) which, upon finding “good cause,” authorizes agencies to dispense with public participation and section 553(d)(3) which allows an agency to make a rule effective immediately (thereby avoiding the 30-day delayed effective date otherwise provided for in the APA). Under section 553 of the APA, an agency may find good cause where such procedures are “impracticable, unnecessary, or contrary to the public interest.” Public comment is “unnecessary” and “contrary to the public interest” since the addresses for the state and local agencies have changed and immediate notice in the CFR benefits the public by updating citations.¹

¹ EPA's finding that providing notice and an opportunity for comment before promulgation of the amendments in this final action is impracticable, unnecessary, or contrary to the public interest also applies for purposes of section 808(2) of the Congressional Review Act, 5 U.S.C. 808(d), as discussed in section II of this preamble.

II. Statutory and Executive Order Reviews

This final rule implements technical amendments to 40 CFR parts 52, 60 and 61 to reflect a change in the address for the state and local agencies, and a name change for one of the state agencies. It does not otherwise impose or amend any requirements. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to the requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the States of Kentucky, North Carolina, and Tennessee, and EPA notes that it will not impose substantial direct costs on tribal governments or preempt tribal law.

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 of the CRA allows the issuing agency to make a rule effective sooner than otherwise provided by the CRA, if the agency makes a good cause finding that notice and public procedure is impracticable, unnecessary, or contrary to the public interest. This determination must be supported by a brief statement (5 U.S.C. 808(2)). As stated earlier, EPA has made such a good cause finding, including the reasons therefore, and established an effective date of July 17, 2017. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

List of Subjects

40 CFR Part 52

Environmental protection, Air pollution control, Carbon monoxide, Intergovernmental relations, Incorporation by reference, Nitrogen dioxide, Ozone, Reporting and recordkeeping requirements, Volatile organic compounds.

40 CFR Part 60

Environmental protection, Administrative practice and procedure, Air pollution control, Aluminum, Ammonium sulfate plants, Batteries, Beverages, Carbon monoxide, Cement industry, Chemicals, Coal, Copper, Dry Cleaners, Electric power plants, Fertilizers, Fluoride, Gasoline, Glass and glass products, Grains, Graphic arts industry, Heaters, Household appliances, Insulation, Intergovernmental relations, Iron, Labeling, Lead, Lime, Metallic and nonmetallic mineral processing plants, Metals, Motor Vehicles, Natural gas, Nitric acid plants, Nitrogen dioxide, Paper and paper products industry, Particulate matter, Paving and roofing materials, Petroleum, Phosphate, Plastics materials and synthetics, Polymers, Reporting and recordkeeping requirements, Sewage disposal, Steel, sulfur oxides, Sulfuric acid plants, Tires, Urethane, Vinyl, Volatile organic compounds, Waste treatment and disposal, Zinc.

40 CFR Part 61

Environmental protection, Air pollution control, Arsenic, Asbestos, Benzene, Beryllium, Hazardous substances, Mercury, Radionuclides, Radon, Reporting and recordkeeping requirements, Uranium, Vinyl chloride.

Dated: June 14, 2017.
V. Anne Heard,
Acting Regional Administrator, Region 4.

40 CFR parts 52, 60 and 61 are amended as follows:

PART 52—APPROVAL AND PROMULGATION OF IMPLEMENTATION PLANS

1. The authority citation for part 52 continues to read as follows:

Authority: 42 U.S.C. 7401 et seq.

Subpart S—Kentucky

2. Section 52.931 is amended by revising paragraph (d) to read as follows:

§ 52.931 Significant deterioration of air quality.

* * * * *

(d) All applications and other information required pursuant to § 52.21 from sources located in the Commonwealth of Kentucky shall be submitted to the appropriate state or local agency for which the source is located, rather than to EPA's Region 4 office: Kentucky Department for Environmental Protection, Division for Air Quality, 300 Sower Boulevard, 2nd Floor, Frankfort, Kentucky 40601; or Louisville Metro Air Pollution Control District, 701 W. Ormsby Ave., Suite 303, Louisville, Kentucky 40203.

Subpart II—North Carolina

3. Section 52.1778 is amended by revising paragraph (c) to read as follows:

§ 52.1778 Significant deterioration of air quality.

* * * * *

(c) All applications and other information required pursuant to § 52.21 from sources located in the State of North Carolina shall be submitted to the appropriate state or local agency for which the source is located, rather than to EPA's Region 4 office: North Carolina Department of Environmental Quality, Division of Air Quality, 1641 Mail Service Center, Raleigh, North Carolina 27699-1641; Forsyth County Office of Environmental Assistance and Protection, 201 North Chestnut Street, Winston-Salem, North Carolina 27101-4120; Mecklenburg County Land Use and Environmental Services Agency, Air Quality, 2145 Suttle Avenue, Charlotte, North Carolina 28208; or Western North Carolina Regional Air Quality Agency, 125 S. Lexington Ave., Suite 101, Asheville, North Carolina 28801-3661.

Subpart RR—Tennessee

4. Section 52.2233 is amended by revising paragraph (c) to read as follows:

§ 52.2233 Significant deterioration of air quality.

* * * * *

(c) All applications and other information required pursuant to § 52.21 from sources located in the State of Tennessee shall be submitted to the appropriate state or local agency for which the source is located, rather than to EPA's Region 4 office: Tennessee Department of Environment and Conservation, Division of Air Pollution Control, William R. Snodgrass Tennessee Tower, 312 Rosa L. Parks Avenue, 15th Floor, Nashville, Tennessee 37243; Knox County Air Quality Management—Department of Public Health, 140 Dameron Avenue, Knoxville, Tennessee 37917; Metro Public Health Department, Pollution Control Division, 2500 Charlotte Ave., Nashville, Tennessee 37209; Chattanooga-Hamilton County Air Pollution Control Bureau, 6125 Preservation Drive, Chattanooga, Tennessee 37416; or Shelby County Health Department, Pollution Control Section, 814 Jefferson Avenue, Memphis, Tennessee 38105.

PART 60—STANDARDS OF PERFORMANCE FOR NEW STATIONARY SOURCES

5. The authority citation for part 60 continues to read as follows:

Authority: 42 U.S.C. 7401 et seq.

Subpart A—General Provisions

6. Section 60.4 is amended by:

a. Redesignating paragraphs (b)(A) through (EEE) as paragraphs (b)(1) through (57).

b. Revising paragraphs (b)(19), (35), and (44) to read as follows:

§ 60.4 Address.

* * * * *

(b) * * *

(19) Commonwealth of Kentucky: Kentucky Department for Environmental Protection, Division for Air Quality, 300 Sower Boulevard, 2nd Floor, Frankfort, Kentucky 40601 or local agency, Louisville Metro Air Pollution Control District, 701 W. Ormsby Ave., Suite 303, Louisville, Kentucky 40203.

* * * * *

(35) State of North Carolina: North Carolina Department of Environmental Quality, Division of Air Quality, 1641 Mail Service Center, Raleigh, North Carolina 27699-1641 or local agencies, Forsyth County Office of Environmental Assistance and Protection, 201 North Chestnut Street, Winston-Salem, North Carolina 27101-4120; Mecklenburg County Land Use and Environmental Services Agency, Air Quality, 2145 Suttle Avenue, Charlotte, North Carolina 28208; Western North Carolina Regional Air Quality Agency, 125 S. Lexington Ave., Suite 101, Asheville, North Carolina 28801-3661.

* * * * *

(44) State of Tennessee: Tennessee Department of Environment and Conservation, Division of Air Pollution Control, William R. Snodgrass Tennessee Tower, 312 Rosa L. Parks Avenue, 15th Floor, Nashville, Tennessee 37243, or local agencies, Knox County Air Quality Management—Department of Public Health, 140 Dameron Avenue, Knoxville, Tennessee 37917; Metro Public Health Department, Pollution Control Division, 2500 Charlotte Ave., Nashville, Tennessee 37209; Chattanooga-Hamilton County Air Pollution Control Bureau, 6125 Preservation Drive, Chattanooga, Tennessee 37416; Shelby County Health Department, Pollution Control Section, 814 Jefferson Avenue, Memphis, Tennessee 38105.

* * * * *

PART 61—NATIONAL EMISSIONS STANDARDS FOR HAZARDOUS AIR POLLUTANTS

7. The authority citation for part 61 continues to read as follows:

Authority: 42 U.S.C. 7401 et seq.

Subpart A—General Provisions

8. Section 61.04 is amended by:

a. Redesignating paragraphs (b)(A) through (EEE) as paragraphs (b)(1) through (57).

b. Revising newly redesignated paragraphs (b)(19), (35), and (44) to read as follows:

§ 61.04 Address.

* * * * *

(b) * * *

(19) Commonwealth of Kentucky: Kentucky Department for Environmental Protection, Division of Air Quality, 300 Sower Boulevard, 2nd Floor, Frankfort, Kentucky 40601 or local agency, Louisville Metro Air Pollution Control District, 701 W. Ormsby Ave. Suite 303, Louisville, Kentucky 40203.

* * * * *

(35) State of North Carolina: North Carolina Department of Environmental Quality, Division of Air Quality, 1641 Mail Service Center, Raleigh, North Carolina 27699-1641 or local agencies, Forsyth County Office of Environmental Assistance and Protection, 201 North Chestnut Street, Winston-Salem, North Carolina 27101-4120; Mecklenburg County Land Use and Environmental Services Agency, Air Quality, 2145 Suttle Avenue, Charlotte, North Carolina 28208; Western North Carolina Regional Air Quality Agency, 125 S. Lexington Ave., Suite 101, Asheville, North Carolina 28801-3661.

* * * * *

(44) State of Tennessee: Tennessee Department of Environment and Conservation, Division of Air Pollution Control, William R. Snodgrass Tennessee Tower, 312 Rosa L. Parks Avenue, 15th Floor, Nashville, Tennessee 37243, or local agencies, Knox County Air Quality Management—Department of Public Health, 140 Dameron Avenue, Knoxville, Tennessee 37917; Metro Public Health Department, Pollution Control Division, 2500 Charlotte Ave., Nashville, Tennessee 37209; Chattanooga-Hamilton County Air Pollution Control Bureau, 6125 Preservation Drive, Chattanooga, Tennessee 37416; Shelby County Health Department, Pollution Control Section, 814 Jefferson Avenue, Memphis, Tennessee 38105.

* * * * *

[FR Doc. 2017-14746 Filed 7-14-17; 8:45 am]

BILLING CODE 6560-50-P